DEPARTMENT OF TRANSPORTATION

Federal Aviation Administration

2016 Meetings of the Equip 2020 Plenary and Working Groups

AGENCY: Federal Aviation Administration (FAA), DOT.

ACTION: Notice of meetings.

SUMMARY: This notice announces the 2016 meetings of the Equip 2020 Plenary and Working Groups. Equip 2020 is a joint FAA and Industry group tasked with moving forward significantly on ADS-B Out implementation. Formed as a result of the Call to Action held October 28, 2014, Equip 2020 was given 32 tasks, reflecting barriers to implementation, which forms the basis of our agendas and discussions.

DATES: Meeting 1 will be held on Wednesday, June 22, 2016, at 8:30 a.m.; meeting 2 will be held on Wednesday, September 14, 2016, at 8:30 a.m.; and meeting 3 will be held on Tuesday, December 13, 2016, at 8:30 a.m.

ADDRESSES: Meeting 1 will be held at RTCA, 1150 18th Street NW., Suite 910, Washington, DC 20036. Meetings 2 and 3 will be held at Helicopter Association International, 1920 Ballenger Ave., Alexandria, VA 22314.

FOR FURTHER INFORMATION CONTACT: Elisabeth Auld, Program Support—FAA AVS Safety Technical Support Services Flight Technologies and Procedures Division; Email: Elisabeth.ctr.auld@faa.gov, Phone: 202-267-4976.

More information on ADS-B Out can be found at https://www.faa.gov/nextgen/equipadsb/.

SUPPLEMENTARY INFORMATION:

Meeting Procedures

(a) Meeting attendance is by invitation only, and is generally limited to those that have participated in previous meetings or are a proxy from their organization.

(b) All meetings start at 8:30 a.m. and conclude at approximately 3:30 p.m. Doors open 30 minutes prior to the beginning of each meeting.

(c) Equip 2020 meetings generally start with 2 hours of Plenary briefings/discussion, 2-3 hours of working group meetings and 1-2 hours of Plenary for working group out briefs. Working groups are currently: Air Carrier Equipage, General Aviation Equipage and Engagement, Benefits and ADS-B In and Installation and Approvals.

(d) Contact Elisabeth Auld (elisabeth.ctr.auld@faa.gov) to request an invitation. There are no plans for telecon/webex access to these meetings.

(e) The meetings will not be formally recorded. However, minutes are posted approximately 2-3 weeks after the meeting on the Equip 2020 SharePoint site https://avssp.faa.gov/avs/afs400/EQUIP2020/SitePages/Equip2020.aspx.

Authority: 49 U.S.C. 106(f), 106(g); 40103, 40113, 40120; E.O. 10854, 24 FR 9665, 3 CFR, 1959-1963 Comp., p. 389.

Issued in Washington, DC, on May 2nd, 2016.
Mark Steinbicker,
Assistant Manager, Flight Technologies and Procedures Division.

[FR Doc. 2016-10751 Filed 5-5-16; 8:45 am]

BILLING CODE 4910-13-P